DEPARTMENT OF LABOR

Office of the Secretary

Strengthening Labor Law Compliance in the Agricultural Sector in Guatemala

AGENCY: Bureau of International Labor Affairs, Department of Labor.

Announcement Type: New. Notice of Availability of Funds and Solicitation for Cooperative Agreement Applications. The full announcement is posted on http://www.Grants.Gov.

Funding Opportunity Number: SGA 08-02.

Key Dates: The closing date for receipt of applications is 30 Days After Publication via Grants.Gov.

Funding Opportunity Description: The U.S. Department of Labor (USDOL), Bureau of International Labor Affairs (ILAB), announces the availability of funds to be awarded by Cooperative Agreement (hereinafter referred to as “grant” or “Cooperative Agreement”) to one qualifying organization for the purpose of improving labor law compliance in the agricultural sector in Guatemala. Approximately $940,000 million dollars are available for award.

Specific objectives of the grant include: Increased ability of workers in targeted agricultural communities to exercise their labor rights; increased awareness among workers and employers in targeted agricultural communities about national labor laws; and systems implemented in targeted communities/workplaces to improve labor law compliance and working conditions. The duration of the project funded by this solicitation is three to four years. The start date of program activities will be negotiated upon award of the Cooperative Agreement, but will be no later than September 30, 2008. ILAB is authorized to award and administer this program by the Department of Labor Appropriations Act, 2008, Public Law No. 110-161, 121 Stat. 1844 (2007).

The full Solicitation for Grant Application is posted on http://www.Grants.Gov under U.S. Department of Labor/ILAB. Only Applications submitted through http://www.Grants.Gov will be accepted. If you need to speak to a person concerning these grants, or if you have issues regarding access to the Grants.Gov Web site, you may telephone Lisa Harvey at 202-693-4592 (not a toll-free number).

Signed at Washington, DC this 4th day of April 2008.
Lisa Harvey,
Grant Officer.

[FR Doc. E8-7596 Filed 4-9-08; 8:45 am]

BILLING CODE 4510-28-P